DEPARTMENT OF HOMELAND SECURITY

Coast Guard

33 CFR Part 165

[Docket No. USCG-2012-0375]

Safety Zone; Milwaukee Harbor, Milwaukee, WI

AGENCY: Coast Guard, DHS.

ACTION: Notice of enforcement of regulation.

SUMMARY: The Coast Guard will enforce a safety zone for the 2013 Pridefest fireworks on June 8, 2013, from 9:15 p.m. until 10:15 p.m. If the fireworks display is cancelled due to inclement weather, then the zone will be enforced on June 9, 2013, from 9:15 p.m. until 10:15 p.m. This action is necessary and intended to ensure safety of life on the navigable waters immediately prior to, during, and immediately after the fireworks display. During the aforementioned periods, the Coast Guard will enforce restrictions upon, and control movement of, vessels in the safety zone. No person or vessel may enter the safety zone while it is being enforced without permission of the Captain of the Port, Lake Michigan.

DATES: This regulation will be enforced from 9:15 p.m. until 10:15 p.m. on June 8, 2013. If the fireworks display is cancelled due to inclement weather, then the zone will be enforced on June 9, 2013, from 9:15 p.m. until 10:15 p.m.

FOR FURTHER INFORMATION CONTACT: If you have questions on this notice, call or email MST1 Joseph McCollum, Prevention Department, Coast Guard Sector Lake Michigan, Milwaukee, WI at (414) 747-7148, email joseph.p.mccollum@uscg.mil.

SUPPLEMENTARY INFORMATION: The Coast Guard will enforce the safety zone listed in 33 CFR 165.935, Safety Zone, Milwaukee Harbor, Milwaukee, WI, for the 2013 Pridefest fireworks. This zone will be enforced from 9:15 p.m. until 10:15 p.m. on June 8, 2013. If the fireworks display is cancelled due to inclement weather, then the zone will be enforced on June 9, 2013, from 9:15 p.m. until 10:15 p.m.

All vessels must obtain permission from the Captain of the Port, Lake Michigan, or his or her on-scene representative to enter, move within, or exit the safety zone. Vessels and persons granted permission to enter the safety zone shall obey all lawful orders or directions of the Captain of the Port, Lake Michigan, or his or her on-scene representative. While within a safety zone, all vessels shall operate at the minimum speed necessary to maintain a safe course.

This notice is issued under authority of 33 CFR 165.935 and 5 U.S.C. 552(a). In addition to this notice in the Federal Register, the Coast Guard will provide the maritime community with advance notification of the enforcement period via broadcast Notice to Mariners or Local Notice to Mariners. If the Captain of the Port, Lake Michigan, determines that the safety zone need not be enforced for the full duration stated in this notice, he or she may use a Broadcast Notice to Mariners to grant general permission to enter the safety zone. The Captain of the Port, Lake Michigan, or his or her on-scene representative may be contacted via VHF Channel 16.

Dated: May 6, 2013.
M. W. Sibley,
Captain, U.S. Coast Guard, Captain of the Port, Lake Michigan.

[FR Doc. 2013-11626 Filed 5-15-13; 8:45 am]

BILLING CODE 9110-04-P